DEPARTMENT OF ENERGY

Federal Energy Regulatory Commission

[Docket Nos. ER05-1410-000, EL05-148-000, ER06-456-000, EL05-145-000, ER06-309-000, ER06-406-000, EL06-50-000 (not consolidated)]

PJM Interconnection, LLC; PJM Interconnection, LLC; District of Columbia Public Service Commission; PJM Interconnection, LLC; PJM Interconnection, LLC; American Electric Power Service Corporation; Supplemental Notice Regarding RPM Technical Conference

February 2, 2006.

The Commission will hold a technical conference on February 3, 2006, on the matters raised by the Reliability Pricing Model (RPM) filed by PJM Interconnection, LLC (PJM) in Docket Nos. ER05-1410-000 and EL05-148-000 (February 3 RPM conference).¹ The additional docket numbers are added because filings in those proceedings contain issues that may arise in the course of discussions regarding RPM.

¹ See Notice of Commission Technical Conference (December 28, 2005) and Supplemental Notice of Commission Technical Conference (January 19, 2006) in Docket Nos. ER05-1410-000 and EL05-148-000.

These proceedings are not consolidated. Once the February 3, 2006 RPM conference is completed and all documents related to that conference are filed, parties should not combine issues relating to these separate proceedings in a single filing. Parties should file future pleadings relating to PJM's filing in Docket Nos. ER05-1410-000 and EL05-148-000 in those dockets only, and similarly, should file future pleadings related to the proceedings in Docket Nos. ER06-456-000, EL05-145-000, ER06-309-000, ER06-406-000, and EL06-50-000 in those dockets respectively.

Magalie R. Salas,
Secretary.

[FR Doc. E6-1701 Filed 2-7-06; 8:45 am]

BILLING CODE 6717-01-P